DEPARTMENT OF STATE

[Public Notice: 9101]

U.S. Department of State Advisory Committee on Private International Law (ACPIL): Public Meeting on Insolvency-Related Judgments and Enterprise Group Insolvency Issues

The Office of the Assistant Legal Adviser for Private International Law, Department of State, gives notice of a public meeting to discuss ongoing work in the United Nations Commission on International Trade Law (UNCITRAL) related to the recognition and enforcement of insolvency-derived judgments and the insolvency of cross-border enterprise groups. The public meeting will take place on Monday, May 11, 2015 from 9:30 a.m. until 12:00 p.m. EDT. This is not a meeting of the full Advisory Committee.

In 2014, the UNCITRAL Commission gave Working Group V a mandate to develop a model law or model legislative provisions on the recognition and enforcement of insolvency-related judgments. The Working Group began its discussions of this topic in December 2014. For the report of this session, see document A/CN.9/829, available at http://www.uncitral.org/uncitral/en/commission/working_groups/5Insolvency.html.

Also at its December 2014 session, Working Group V continued its efforts to address enterprise group insolvency issues. It plans to develop model legislative provisions that would facilitate the cross-border insolvency of enterprise group members, addressing topics such as provision of access to foreign courts for representatives and creditors of insolvency proceedings involving enterprise group members, provision of standing for group members to participate in the insolvency proceedings of other members, the use of synthetic proceedings, and appropriate forms of relief.

The purpose of the public meeting is to obtain the views of concerned stakeholders on draft instruments prepared by the UNCITRAL Secretariat on both topics: The recognition and enforcement of insolvency-related judgments and the insolvency of cross-border enterprise groups. The drafts will be posted by the Secretariat at http://www.uncitral.org/uncitral/en/commission/working_groups/5Insolvency.html

Time and Place: The meeting will take place on May 11, 2015, from 9:30 a.m. until 12:00 p.m. via a teleconference. Those who cannot participate but wish to comment are welcome to do so by email to Tim Schnabel at SchnabelTR@state.gov.

Public Participation: This meeting is open to the public. If you would like to participate by telephone, please email pil@state.gov to obtain the call-in number and other information.

Dated: April 9, 2015.
Timothy R. Schnabel,
Attorney-Adviser, Office of Private International Law, Office of Legal Adviser, Department of State.

[FR Doc. 2015-09215 Filed 4-20-15; 8:45 am]

BILLING CODE 4710-08-P